FEDERAL EMERGENCY MANAGEMENT AGENCY

44 CFR Part 65

[Docket No. FEMA-D-7513]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street, SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Alabama: Morgan | City of Decatur | May 29, 2001, June 5, 2001, The Decatur Daily | The Honorable Julian Price, Mayor of the City of Decatur, P.O. Box 488, Decatur, Alabama 35602 | September 4, 2001 | 010176
Connecticut: New Haven | Town of Branford | June 11, 2001, June 18, 2001, New Haven Register | Mr. Anthony Daros, Town of Branford First Selectman, Town Hall, P.O. Box 150, Branford, Connecticut 06405 | June 1, 2001 | 090073 C
Florida:
Charlotte | Unincorporated Areas | July 2, 2001, July 9, 2001, Charlotte Sun Herald | Mr. Jan Winters, Charlotte County Administrator, 18500 Murdock Circle, Room 536, Port Charlotte, Florida 33948-1094 | June 25, 2001 | 120061 D
Duval | City of Jacksonville | August 1, 2001, August 8, 2001, Financial News and Daily Record |  | November 7, 2001 | 120077 E
Seminole | Unincorporated Areas | May 30, 2001, June 6, 2001, Seninole Herald | Mr. Kevin Grace, Manager of Seminole County, 1101 East First Street, Sanford, Florida 32771 | May 23, 2001 | 120289 E
Georgia: Gwinnett | City of Suwanee | May 18, 2001, Gwinnett Daily Post | The Honorable Nick Masino, Mayor of the City of Suwanee, 373 U.S. Highway, Suwanee, Georgia 30024 | June 18, 2001
Illinois:
DuPage and Will | Village of Bolingbrook | July 6, 2001, July 13, 2001, The Bolingbrook Sun | The Honorable Roger C. Claar, Mayor of the Village of Bolingbrook, 375 West Briarcliff Road, Bolingbrook, Illinois 60440-0951 | June 26, 2001 | 170812 F
Cook | Unincorporated Areas | August 9, 2001, August 16, 2001, Northbrook Star | Mr. John H. Stroger, Jr., President of the Cook County Board of Commissioners, 118 North Clark Street, Room 537, Chicago, Illinois 60602 | November 15, 2001 | 170054 F
Williamson | City of Marion | July 30, 2001, August 6, 2001, The Marion Daily Republican | The Honorable Robert Butler, Mayor of the City of Marion, City Hall, 1102 Tower Square Plaza, Marion, Illinois 62959 | November 5, 2001 | 170719 B
Cook | Village of Northbrook | June 7, 2001, June 14, 2001, Northbrook Star | Mr. Mark V. Damisch, Village of Northbrook President, 1225 Cedar Lane, Northbrook, Illinois 60062-4582 | June 1, 2001 | 170132 F
Will | Unincorporated Areas | July 6, 2001, July 13, 2001, Herald-News | Mr. Joseph Mikan, Will County Executive, 302 North Chicago Street, Joliet, Illinois 60432 | October 12, 2001 | 170695 F
Indiana:
Allen | Unincorporated Areas | July 19, 2001, The Journal Gazette | Mr. Edwin J. Rousseau, President of the Allen County Board of Commissioners, 1 East Main Street, Room 200, City/County Building, Fort Wayne, Indiana 46802 | August 8, 2001 | 180302 E
Allen | City of Fort Wayne | July 19, 2001, The Journal Gazette | The Honorable Graham Richard, Mayor of the City of Fort Wayne, 1 East Main Street, 9th Floor, City/County Building, Fort Wayne, Indiana 46802 | August 8, 2001 | 18003 E
Noble | Unincorporated Areas | May 30, 2001, June 6, 2001, The News-Sun | Mr. Mark Pankap, President of the Noble County Board of Commissioners, Noble County Courthouse, 101 North Orange Street, Albion, Indiana 46701 | September 5, 2001 | 180183 A&B
Rush | Unincorporated Areas | July 31, 2001, August 7, 2001, Rushville Republican | Mr. Kenneth Brashaber, President of the Rush County Board of Commissioners, County Courthouse, 101 East Second Street, Rushville, Indiana 46173 | July 20, 2001 | 180421 B
Rush | City of Rushville | July 31, 2001, August 7, 2001, Rushville Republican | The Honorable Robert M. Bridges, Mayor of the City of Rushville, Rushville City Hall, 133 West First Street, Rushville, Indiana 46173 | July 20, 2001 | 180223 B
Kentucky | Lexington-Fayette Urban County Government | May 30, 2001, June 6, 2002, Lexington Herald-Leader | The Honorable Pam Miller, Mayor of the Lexington-Fayette Urban County Government, 200 East Main Street, 12th Floor, Lexington-Fayette Government Building, Lexington, Kentucky 40507 | May 23, 2001 | 210067 C
Massachusetts: Middlesex | Town of Pepperell | June 19, 2001, The Lowell Sun | Mr. Scott Butcher, Town of Pepperell Chairman, 1 Main Street, Pepperell, Massachusetts 01463 | July 12, 2001 | 250210 C
Michigan: Macomb | City of New Baltimore | June 20, 2001, June 27, 2001, The Bay Voice | The Honorable Joe Grajek, Mayor of the City of New Baltimore, City Hall, 36535 Green Street, New Baltimore, Michigan 48047 | June 8, 2001 | 260125 B
Mississippi: Madison | City of Ridgeland | May 17, 2001, May 24, 2001, Madison County Journal | The Honorable Gene F. McGee, Mayor of the City of Ridgeland, P.O. Box 217, Ridgeland, Mississippi 39158 | May 10, 2001 | 280110 D
New Hampshire:
Sullivan | City of Claremont | July 23, 2001, July 30, 2001, Eagle Times | Mr. Richard Hodgkinson, City Manager of Claremont, 58 Tremont Square, City Hall, Claremont, New Hampshire 03743 | July 11, 2001 | 330154 C
Hillsborough | Town of Hollis | June 19, 2001, June 26, 2001, The Telegraph | Mr. Daniel McManus, Chairman of the Board of Selectmen, 7 Monument Square, Hollis, New Hampshire 03049 | September 25, 2001 | 330091 B
New York:
Chemung | Town of Big Flats | August 15, 2001, August 22, 2001, Star Gazette | Mr. Merrill Lynn, Supervisor of the Town of Big Flats, P.O. Box 449, Big Flats, New York 14814-0449 | February 2, 2002 | 360148 E
Erie | Town of Cheektowaga | July 19, 2001, July 26, 2001, Cheektowaga Times | Mr. Dennis H. Gabryszak, Town of Cheektowaga, Supervisor, Town Hall, Broadway and Union Roads, Cheektowaga, New York 14227 | January 26, 2002 | 360231 E
North Carolina:
Brunswick | Unincorporated Areas | June 28, 2001, July 5, 2001, Wilmington Morning Star | Mr. Marty Lawing, Brunswick County Manager, P.O. Box 249, 45 Courthouse Drive, Bolivia, North Carolina 28422 | October 4, 2001 | 370295 C
Orange | Town of Carrboro | May 21, 2001, May 28, 2001, Chapel Hill Herald | Mr. Robert W. Morgan, Manager of the Town of Carrboro, 301 West Main Street, Carrboro, North Carolina 27510 | August 27, 2001 | 370275 C
Wake | Town of Cary | May 24, 2001, May 31, 2001, The Cary News | The Honorable Glenn D. Lang, Mayor of the Town of Cary, P.O. Box 8005, Cary, North Carolina 27512 | August 29, 2001 | 370238 E
Wake | Town of Garner | July 18, 2001, July 25, 2001, The News and Observer | Ms. Mary Lou Rand, Town Manager, P.O. Box 446, 900 Seventh Avenue, Garner, North Carolina 27529 | July 11, 2001 | 370240 D
Wake | City of Raleigh | July 18, 2001, July 25, 2002, The News and Observer | The Honorable Paul Y. Coble, Mayor of the City of Raleigh, P.O. Box 590, 222 West Hargett Street, Raleigh, North Carolina 27602 | July 11, 2001 | 370243 D
Wake | Unincorporated Areas | July 18, 2001, July 25, 2001, The News and Observer | Mr. David Cooke, Wake County Manager, Suite 1100, 337 South Salisbury Street, Raleigh, North Carolina 27602 | July 11, 2001 | 370368 D
Ohio:
Fairfield, Franklin, and Delaware Counties | City of Columbus | May 16, 2001, May 23, 2001, Gahanna News | The Honorable Michael Coleman, May or of the City of Columbus, 90 West Board Street, Columbus, Ohio 43215 | August 22, 2001 | 390170 G
Franklin | Unincorporated Areas | May 16, 2001, May 23, 2001, Gahanna News | Ms. Arlene Shoemaker, President of the Franklin County Board of Commissioners, 373 South High Street, 26th Floor, Columbus, Ohio 43215-6304 | August 22, 2001 | 390167 G
Pennsylvania; Dauphin | Township of East Hanover | August 3, 2001, August 10, 2001, Patriot News | Mr. George Rish, Township of Hanover Board of Supervisors, 80848 Jonestown Road, Grantville, Pennsylvania 17028 | November 9, 2001 | 420377 B
Puerto Rico | Commonwealth | August 3, 2001, August 10, 2001, San Jaun Star | The Honorable Sila Maria Calderon, Governor of Puerto Rico, Post Office Box 9020082, La Fortaleza, San Juan, Puerto Rico 00902 | November 9, 2001 | 720000 B
South Carolina:
Anderson | Unincorporated Areas | June 20, 2001, June 27, 2001, Anderson Independent | Mr. Joey Preston, Anderson County Administrator, 100 South Main Street, P.O. Box 8002, Anderson, South Carolina 29622 | September 26, 2001 | 450013 B
Richland | Unincorporated Areas | June 28, 2001, July 5, 2001, The State | Mr. T. Cary McSwain, Richland County Administrator, 2020 Hampton Street, P.O. Box 192, Columbia, South Carolina 29202 | June 21, 2001 | 450170 G
Tennessee: Wilson | City of Lebanon | June 21, 2001, June 28, 2001, The Lebanon Democrat | The Honorable Don Fox, Mayor of the City of Lebanon, 200 Castle Heights Avenue North, Suite 100, Lebanon, Tennessee 37087-2845 | September 27, 2001 | 470208 C
West Virginia: Upshur | City of Buckhannon | August 15, 2001, August 22, 2001, Delta Record | The Honorable Nancy Shoebe, Acting Mayor of the City of Buckhannon, 70 East Main Street, Buckhannon, West Virginia 26201 | February 2, 2001 | 540199 B
Wisconsin: Sauk | Unincorporated Areas | May 29, 2001, News-Republic | Mr. Melvin Rose, Sauk County Board Chairperson, 505 Broadway Street, Room 140, Baraboo, Wisconsin 53913 | June 21, 2001 | 550391 D

(Catalog of Federal Domestic Assistance No. 83.100, “Flood Insurance.”)
Robert F. Shea,
Acting Administrator, Federal Insurance and Mitigation Administration.

[FR Doc. 01-24346 Filed 9-27-01; 8:45 am]

BILLING CODE 6718-04-P